ENVIRONMENTAL PROTECTION AGENCY

[EPA-HQ-OPPT-2005-0044; FRL-8098-9]

National Lead Laboratory Accreditation Program (NLLAP); Notice of Availability of Revisions to the NLLAP; Notice of Availability

AGENCY: Environmental Protection Agency (EPA).

ACTION: Notice.

SUMMARY: This notice announces the availability of the revised EPA National Lead Laboratory Accreditation Program (NLLAP) in the document titled “Laboratory Quality System Requirements (LQSR) Revision 3.0” dated July 5, 2007. Revisions to the LQSR include the expansion of NLLAP to cover: (1) Lead laboratory analysis programs that conduct lead analysis for the field (Field Sampling and Measurement Organizations), and (2) revised training requirements for laboratory personnel. The Agency will phase-in LQSR 3.0 over the next 18 months.

DATES: LQSR 3.0 will become effective July 23, 2009. In order to be recognized by the NLLAP, laboratories and accreditation organizations that currently administer the NLLAP may comply with the requirements of the LQSR 2.0 dated August 1, 1996, or LQSR 3.0 dated July 5, 2007. After, July 23, 2009 all NLLAP recognized organizations must implement and comply with the requirements of LQSR 3.0.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Benjamin Lim, National Program Chemicals Division (7404T), Office of Pollution Prevention and Toxics, Environmental Protection Agency, 1200 Pennsylvania Ave., NW., Washington, DC 20460-0001; telephone number: (202) 566-0482; e-mail address: Lim.Benjamin@epa.gov.

SUPPLEMENTARY INFORMATION:

I. General Information

A. Does this Action Apply to Me?

You might potentially be affected by this action if you are or may be required to follow the Agency's regulations regarding testing for lead. Specifically, entities potentially affected by these revisions are Fixed-Site, Mobile, and Field Sampling and Measurement Organizations (FSMOs) that perform lead testing. Analytical testing laboratories currently recognized by the NLLAP, and accreditation organizations that currently administer the NLLAP (i.e., the American Industrial Hygiene Association (AIHA) and the American Association for Laboratory Accreditation (A2LA)) or other organizations that might seek a Memorandum of Understanding (MOU) with the Agency to become an accreditation organization could be affected by today's revisions. In addition, certified inspectors, certified risk assessors, developers, manufacturers, distributors of equipment and supplies used by FSMOs testing lead might also be affected by these revisions; and EPA-authorized state and tribal lead-based paint training and certification programs may also be affected by these revisions.

Other entities potentially affected by changes to the NLLAP for lead testing are the owners and managers of target housing and child-occupied facilities, as well as realtors, lessees, and residents, who ultimately pay for the testing services and stand to benefit by obtaining lead test results quicker.

Since other entities may also be interested, the Agency has not attempted to describe all of the specific entities that may be affected by this notice. If you have any questions regarding the applicability of this notice to a particular entity, consult the technical person listed under FOR FURTHER INFORMATION CONTACT.

B. How Can I Get Copies of this Document and Other Related Information?

1. Docket. Materials cited in this notice are available in docket number EPA-HQ-OPPT-2005-0044. All documents in the docket are listed in the regulations.gov index. To access the electronic docket, go to http://www.regulations.gov, select “Advanced Search,” then “Docket Search.” Insert the docket ID number where indicated and select the “Submit” button. Follow the instructions on the regulations.gov website to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr/. You may also access this document at the Office of Pollution Prevention and Toxics Lead Home Page at http://www.epa.gov/lead/new.htm.

II. Background

Under the Congressional mandate stated in section 405(b) of Title X, The Residential Lead-Based Paint Hazard Reduction Act of 1992, EPA has established the NLLAP. The program has been established by EPA in order to assure the public that analytical laboratories recognized by the EPA NLLAP have demonstrated they are capable of analyzing for lead in paint chip, dust, and/or soil samples. A list of EPA recognized lead laboratories is updated on a periodic basis and is available from the National Lead Information Center Clearinghouse upon request (1-800-424-LEAD) or at the Office of Pollution Prevention and Toxics Lead Home Page at http://www.epa.gov/lead/pubs/nllap.htm.

The Agency is announcing changes to NLLAP to encourage the recognition of all lead testing service providers (e.g., FSMOs) and to bring the NLLAP into compliance with current consensus standards (e.g., American Society for Testing and Materials (ASTM), American National Standards Institute (ANSI), and International Organization for Standardization (ISO)). This may, in turn, increase lead testing options, reduce costs, and save time for those who purchase analytical services related to lead hazard identification and control.

III. What Action is the Agency Taking?

The Agency made these revisions to the NLLAP to provide a vehicle and remove barriers so that all types of lead testing service providers could participate in the NLLAP. These changes also provide the tools for smaller lead testing organizations to obtain NLLAP recognition. Also these revisions are making the NLLAP more efficient and cost-effective while maintaining the high standard of quality, science and technology necessary to ensure public health protection in supporting EPA and U.S. Department of Housing and Urban Development (HUD) lead regulations.

List of Subjects

Environmental protection, Lead testing accreditation, National Lead Laboratory Accreditation Program (NLLAP), Laboratory Quality System Requirements (LQSR).

Dated: January 16, 2008.
James B. Gulliford,
Assistant Administrator, Office of Prevention, Pesticides and Toxic Substances.

[FR Doc. E8-1110 Filed 1-22-08; 8:45 am]

BILLING CODE 6560-50-S